ENVIRONMENTAL PROTECTION AGENCY

[FRL OP-OFA-020]

Environmental Impact Statements; Notice of Availability

Responsible Agency: Office of Federal Activities, General Information 202-564-5632 or https://www.epa.gov/nepa.

Weekly receipt of Environmental Impact Statements (EIS)

Filed June 6, 2022 10 a.m. EST Through June 13, 2022 10 a.m. EST

Pursuant to 40 CFR 1506.9.

Notice: Section 309(a) of the Clean Air Act requires that EPA make public its comments on EISs issued by other Federal agencies. EPA's comment letters on EISs are available at: https:/cdxnodengn.epa.gov/cdx-enepa-public/action/eis/search.

EIS No. 20220078, Final, FRA, CA, Coachella Valley-San Gorgonio Pass Rail Corridor Service Program Combined Final Tier 1 Program EIS/EIR and Record of Decision, Review Period, Contact: Amanda Ciampolillo 617-866-9398.

Under 23 U.S.C. 139(n)(2), FRA has issued a single document that consists of a final environmental impact statement and record of decision. Therefore, the 30-day wait/review period under NEPA does not apply to this action.

EIS No. 20220079, Draft, EPA, IBWC, CA, United States-Mexico-Canada Agreement Mitigation of Contaminated Transboundary Flows Project, Comment Period Ends: 08/01/2022, Contact: Elizabeth A. Borowiec 415-972-3419.

EIS No. 20220080, Draft, FERC, IL, Three Rivers Interconnection Project, Comment Period Ends: 08/01/2022, Contact: Office of External Affairs 866-208-3372.

EIS No. 20220081, Final, FHWA, MD, I-495 & I-270 Managed Lanes Study Final Environmental Impact Statement and Final Section 4(f) Evaluation, Review Period Ends: 07/18/2022, Contact: Jeanette Mar 410-779-7152.

EIS No. 20220082, Draft, USDA, OR, Powder River Mining, Comment Period Ends: 08/01/2022, Contact: Kendall Cikanek 541-523-1301.

EIS No. 20220083, Third Revised Draft, USACE, FL, Lake Okeechobee Watershed Restoration Project Third Revised Draft Integrated Project Implementation Report and Supplemental Environmental Impact Statement, Comment Period Ends: 08/01/2022, Contact: Melissa Nasuti 904-232-1368.

Dated: June 14, 2022.
Cindy S. Barger,
Director, NEPA Compliance Division, Office of Federal Activities.

[FR Doc. 2022-13100 Filed 6-16-22; 8:45 am]

BILLING CODE 6560-50-P